DEPARTMENT OF THE INTERIOR

Bureau of Land Management

[OR-936-1430-ET; HAG-07-0001; OR-59658]

Notice of Proposed Withdrawal and Opportunity for Public Meeting; Oregon; Correction

AGENCY: Bureau of Land Management, Interior.

ACTION: Correction.

SUMMARY: In Federal Register notice document # 05-19132 filed 9-23-05; 8:45 a.m., beginning on page 56187, in issue published Monday, September 26, 2005, the following correction is made:

On page 56187, in the second column, the legal description in the twenty-second line under Sec. 10, which reads “NW¼ SE¼ NW¼ W½ SW¼ SE¼ NW¼” is hereby corrected to read “NW¼SE¼NW¼, W½ SW¼ SE¼ NW¼.”

Patrick H. Geehan,
Acting Chief, Branch of Lands and Minerals, Oregon/Washington.

[FR Doc. E6-16467 Filed 10-4-06; 8:45 am]

BILLING CODE 4310-33-P